DEPARTMENT OF ENERGY

Federal Energy Regulatory Commission

Combined Notice of Filings #1

Take notice that the Commission received the following electric rate filings:

Docket Numbers: ER10-1246-012; ER10-1982-013; ER10-1253-012; ER10-1252-012.

Applicants: Consolidated Edison Energy, Inc., Consolidated Edison Company of New York, Inc., Orange and Rockland Utilities, Inc., Consolidated Edison Solutions, Inc.

Description: Notice of Non-Material Change in Status of Consolidated Edison, Inc., et al.

Filed Date: 5/27/15.

Accession Number: 20150527-5034.

Comments Due: 5 p.m. ET 6/17/15.

Docket Numbers: ER13-1927-001.

Applicants: American Electric Power Service Corporation, PJM Interconnection, L.L.C.

Description: Compliance filing per 35: PJM Transmission Owners submit compliance filing per 1/23/15 Order in ER13-1927 to be effective 1/1/2014.

Filed Date: 5/26/15.

Accession Number: 20150526-5270.

Comments Due: 5 p.m. ET 6/16/15.

Docket Numbers: ER13-1930-004.

Applicants: Louisville Gas and Electric Company.

Description: Compliance filing per 35: Order No 1000 SERTP-PJM 2d Interregional Compliance Filing to be effective 1/1/2015.

Filed Date: 5/26/15.

Accession Number: 20150526-5213.

Comments Due: 5 p.m. ET 6/16/15.

Docket Numbers: ER13-1940-005.

Applicants: Ohio Valley Electric Corporation.

Description: Compliance filing per 35: M-3 Compliance Filing to be effective 5/27/2015.

Filed Date: 5/26/15.

Accession Number: 20150526-5227.

Comments Due: 5 p.m. ET 6/16/15.

Docket Numbers: ER13-1941-004.

Applicants: Alabama Power Company.

Description: Compliance filing per 35: Order No. 1000 Second Interregional Compliance Filing—SERTP-PJM Seam to be effective 1/1/2015.

Filed Date: 5/26/15.

Accession Number: 20150526-5215.

Comments Due: 5 p.m. ET 6/16/15.

Docket Numbers: ER14-2721-002.

Applicants: Peetz Logan Interconnect, LLC.

Description: Compliance filing per 35: Peetz Logan Interconnect, LLC Order No. 792 and 792-A Second Compliance Filing to be effective 8/4/2014.

Filed Date: 5/26/15.

Accession Number: 20150526-5266.

Comments Due: 5 p.m. ET 6/16/15.

Docket Numbers: ER14-2722-002.

Applicants: Sagebrush, a California partnership.

Description: Compliance filing per 35: Sagebrush, a California partnership Order No. 792 and 792-A Second Compliance Fi to be effective 8/4/2014.

Filed Date: 5/26/15.

Accession Number: 20150526-5267.

Comments Due: 5 p.m. ET 6/16/15.

Docket Numbers: ER14-2723-002.

Applicants: Sky River LLC.

Description: Compliance filing per 35: Sky River LLC Order No. 792 and 792-A Second Compliance Filing to be effective 8/4/2014.

Filed Date: 5/26/15.

Accession Number: 20150526-5268.

Comments Due: 5 p.m. ET 6/16/15.

Docket Numbers: ER15-977-002.

Applicants: Midcontinent Independent System Operator, Inc.

Description: Compliance filing per 35: 2015-05-27_SA 2737 Compliance ATC-WPSC PCA (James St.) to be effective N/A.

Filed Date: 5/27/15.

Accession Number: 20150527-5041.

Comments Due: 5 p.m. ET 6/17/15.

Docket Numbers: ER15-1778-000.

Applicants: PJM Interconnection, L.L.C.

Description: Section 205(d) rate filing per 35.13(a)(2)(iii): Service Agreement Nos. 4045 and 4138; Queue T94 to be effective 4/23/2015.

Filed Date: 5/26/15.

Accession Number: 20150526-5210.

Comments Due: 5 p.m. ET 6/16/15.

Docket Numbers: ER15-1779-000.

Applicants: Alabama Power Company.

Description: Section 205(d) rate filing per 35.13(a)(2)(iii): SCPSA Interchange Contract Amendment Filing to be effective 4/23/2015.

Filed Date: 5/26/15.

Accession Number: 20150526-5230.

Comments Due: 5 p.m. ET 6/16/15.

Docket Numbers: ER15-1780-000.

Applicants: Georgia Power Company.

Description: Section 205(d) rate filing per 35.13(a)(2)(iii): SCPSA Interchange Contract Amendment Filing to be effective 4/23/2015.

Filed Date: 5/26/15.

Accession Number: 20150526-5232.

Comments Due: 5 p.m. ET 6/16/15.

Docket Numbers: ER15-1781-000.

Applicants: Gulf Power Company.

Description: Section 205(d) rate filing per 35.13(a)(2)(iii): SCPSA Interchange Contract Amendment Filing to be effective 4/23/2015.

Filed Date: 5/26/15.

Accession Number: 20150526-5236.

Comments Due: 5 p.m. ET 6/16/15.

Docket Numbers: ER15-1782-000.

Applicants: Mississippi Power Company.

Description: Section 205(d) rate filing per 35.13(a)(2)(iii): SCPSA Interchange Contract Amendment Filing to be effective 4/23/2015.

Filed Date: 5/26/15.

Accession Number: 20150526-5240.

Comments Due: 5 p.m. ET 6/16/15.

Docket Numbers: ER15-1783-000.

Applicants: California Independent System Operator Corporation.

Description: Section 205(d) rate filing per 35.13(a)(2)(iii): 2015-05-26 CPM Tariff Amendment to be effective 1/16/2016.

Filed Date: 5/26/15.

Accession Number: 20150526-5272.

Comments Due: 5 p.m. ET 6/16/15.

Docket Numbers: ER15-1784-000.

Applicants: PJM Interconnection, L.L.C.

Description: Section 205(d) rate filing per 35.13(a)(2)(iii): Original WMPA Service Agreement No. 4156; Queue Z2-102 to be effective 5/6/2015.

Filed Date: 5/27/15.

Accession Number: 20150527-5051.

Comments Due: 5 p.m. ET 6/17/15.

Take notice that the Commission received the following electric securities filings:

Docket Numbers: ES15-21-000.

Applicants: Connecticut Light & Power Company, Western Massachusetts Electric Company.

Description: Clarification to April 28, 2015 Application of The Connecticut Light and Power Company and Western Massachusetts Electric Company to Issue Short-Term Debt Securities.

Filed Date: 5/26/15.

Accession Number: 20150526-5277.

Comments Due: 5 p.m. ET 6/5/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 27, 2015.
Nathaniel J. Davis, Sr.,
Deputy Secretary.

[FR Doc. 2015-13309 Filed 6-1-15; 8:45 am]

BILLING CODE 6717-01-P